DEPARTMENT OF HOMELAND SECURITY

Federal Emergency Management Agency

[Docket ID FEMA-2012-0025]

Trees and Plantings Associated With Eligible Facilities, RP9524.5

AGENCY: Federal Emergency Management Agency, DHS.

ACTION: Notice.

SUMMARY: This document provides notice of the availability of the final policy Trees and Plantings Associated with Eligible Facilities. The Federal Emergency Management Agency (FEMA) published a notice of availability and request for comment for the proposed policy on August 6, 2012, at 77 FR 46767.

DATES: This policy is effective September 4, 2013.

ADDRESSES: This final policy is available online at http://www.regulations.gov and on FEMA's Web site at http://www.fema.gov. The proposed and final policy, all related Federal Register Notices, and all public comments received during the comment period are available at http://www.regulations.gov under docket ID FEMA-2012-0025. You may also view a hard copy of the final policy at the Office of Chief Counsel, Federal Emergency Management Agency, 8NE, 500 C Street SW., Washington, DC 20472.

FOR FURTHER INFORMATION CONTACT: William Roche, Federal Emergency Management Agency, 500 C Street SW., Washington, DC 20472, 202-646-3834.

SUPPLEMENTARY INFORMATION: The purpose of this policy is to provide guidance on eligible and ineligible work related to trees, shrubs, and other plantings, including limited eligibility for replacement of grass and sod associated with facilities eligible for repair and restoration. This policy applies to any measure taken with respect to trees, shrubs, and other plantings, including but not limited to replacement, non-emergency removal for the purposes of replacement, and remedial actions taken to abate disaster damage. It does not affect eligible debris removal and emergency protective measures that may be taken under Sections 403 and 407 of the Stafford Act, as amended.

FEMA received one comment on the proposed policy; it did not make any changes to the final policy.

This final policy does not have the force or effect of law.

Authority: 42 U.S.C. 5121-5207.

David J. Kaufman,
Director, Office of Policy and Program Analysis, Federal Emergency Management Agency.

[FR Doc. 2013-26017 Filed 10-31-13; 8:45 am]

BILLING CODE 9111-23-P